DEPARTMENT OF COMMERCE

National Oceanic and Atmospheric Administration

[I.D. 102306E]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on November 14-16, 2006, to consider actions affecting New England fisheries in the exclusive economic zone (EEZ).

DATES: The meeting will be held on Tuesday, November 14, 2006, beginning at 9 a.m., and Wednesday and Thursday, November 15 and 16, 2006, beginning at 8:30 a.m. each day.

ADDRESSES: The meeting will be held at the Tavern on the Harbor, 30 Western Avenue, Gloucester, MA 01930; telephone: (978) 283-4200.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, November 14, 2006

Following introductions, the Council will hear a series of brief reports from the Council Chairman and Executive Director, the NOAA Northeast Regional Administrator, Northeast Fisheries Science Center and Mid-Atlantic Fishery Management Council liaisons, NOAA General Counsel and representatives of the U.S. Coast Guard, NOAA Enforcement, the Atlantic States Marine Fisheries Commission and the Northeast Multispecies Capacity Reduction Committee. During this morning session, the Council also will receive a report its Habitat Committee. The committee chairman may ask the Council to approve an additional habitat area of particular concern alternative for inclusion in the Essential Fish Habitat Omnibus Amendment under development. This will be followed by two presentations on ecosystem-based fisheries management. The morning session will conclude with discussion and approval of Council management actions for 2007.

Wednesday, November 15, 2006

During the morning session, the Council will consider final action on Framework 4 to the Monkfish Fishery Management Plan (FMP). Framework 4 includes alternatives for target total allowable catch (TAC) alternatives and associated trip limits and days-at-sea alternatives in both monkfish management areas for the final three years of the monkfish rebuilding program, starting May 1, 2007. Framework Adjustment 4 also contains other alternatives, including eliminating the directed fishery; backstop provisions to ensure that management measures achieve the target TACs on an ongoing basis; modification or elimination of the days-at-sea (DAS) carryover provision; and modification of the boundary of the North Carolina/Virginia area monkfish fishery. The Council will also review a Monkfish Committee recommendation on monkfish incidental catch limits in the scallop closed area access program. This agenda item will be followed by a brief open period during which the public may address other fisheries related business that is not on the Council agenda. The Council will then receive a presentation from the Northeast Fisheries Science Center about a survey to be distributed to fisheries permit holders concerning vessel costs. The Scallop Committee Report will address several items: (1) a presentation from the Scallop Plan Development Team on the updated scallop biomass in the Elephant Trunk Access Area; (2) consideration of an action to allow industry-funded observers in the scallop fishery; and (3) consideration of an action on scallop management measures for fishing years 2008 and 2009. At the end of the day, the Council plans to approve herring research priorities to apply to fishing years 2008 and 2009, as recommended by the Council's Herring Plan Development Team.

Thursday, November 16, 2006

The Council's Research Steering Committee Chairman will report on the committee's recommendations concerning the use of information provided in several cooperative research final reports. This will be followed by a discussion of other issues related to cooperative research such as the future use of study fleets, directions for cod research and the Northeast Region's Guidelines for Exempted Fishing Permits. The Small Mesh Multispecies Committee will then ask for approval of measures to be used in the development of alternatives for consideration in the new Small Mesh Multispecies amendment. Among other issues, measures will focus on limited entry, hard Total Allowable Catches, protections for juvenile whiting and dedicated access privileges. Following a presentation on observed changes in growth rates and weights at age for a number of groundfish species, the Groundfish Committee will provide a report to the Council. Its chairman will report on the recent groundfish workshop and recommend standards and principles that must be met by any management system that may be considered in the 2009 Northeast Multispecies FMP. At the end of the day the Council will consider and could approve the recommendations of the Transboundary Management Guidance Committee for fishing year 2007 Total Allowable Catches for yellowtail flounder and cod caught in the U.S./Canada area.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 25, 2006.
Tracey L. Thompson,
Acting Director, Office of Sustainable Fisheries, National Marine Fisheries Service.

[FR Doc. E6-18091 Filed 10-27-06; 8:45 am]

BILLING CODE 3510-22-S